DEPARTMENT OF EDUCATION

Submission for OMB Review; Comment Request

Correction

In notice document E7-14391 beginning on page 40843 in the issue of Wednesday, July 25, 2007, make the following correction:

On page 40843, in the second column, under the heading DATES, in the second and third lines, “July 25, 2007” should read “August 24, 2007”.

[FR Doc. Z7-14391 Filed 7-30-07; 8:45 am]

BILLING CODE 1505-01-D

DEPARTMENT OF ENERGY

Notice of Intent to Prepare an Environmental Impact Statement for the Disposal of Greater-Than-Class-C Low-Level Radioactive Waste

Correction

In notice document E7-14139 beginning on page 40135 in the issue of Monday, July 23, 2007, make the following correction:

On page 40137, the table is corrected to read as follows:

Table 1.—Inventory Summary of Estimated Quantities of GTCC LLW and DOE GTCC-like Waste ᵃ
Waste type | In storage: Volume in cubic meters (m³) | In storage: Activity ᵇ MCi | Projected: Volume m³ | Projected: Activity ᵇ MCi | Total stored and projected: Volume m ³ | Total stored and projected: Activity ᵇ MCi
GTCC LLW:
Activated metal | 58 | 3.5 | 810 | 110 | 870 | 110
Sealed sources | (ᶜ) | (ᶜ) | 1,700 | 2.4 | 1,700 | 2.4
Other ᵈ | 76 | 0.0076 | 1.0 | 0.00023 | 77 | 0.0078
Total GTCC LLW | 130 | 3.5 | 2,500 | 110 | 2,600 | 110
DOE GTCC-like waste:
Activated metal | 5.0 | 0.11 | 29 | 0.82 | 34 | 0.93
Sealed sources | 8.7 | 0.013 | 25 | 0.030 | 34 | 0.043
Other ᵈ | 860 | 11 | 2,000 | 19 | 2,900 | 30
Total DOE GTCC-like waste | 870 | 11 | 2,100 | 20 | 3,000 | 31
Total GTCC and GTCC-like waste | 1,000 | 15 | 4,600 | 130 | 5,600 | 140
ᵃ Values have been rounded to two significant figures.
ᵇ Radioactivity values are in millions of curies (MCi).
ᶜ There are sealed sources currently possessed by NRC licensees that may become GTCC LLW when no longer needed by the licensee. The estimated volume and activity of those sources are included in the projected inventory, notwithstanding the lack of information on the current status of the sources (e.g., in use, waste, etc.).
ᵈ Other GTCC LLW and DOE GTCC-like waste includes contaminated equipment, debris, trash, scrap metal and decontamination and decommissioning waste.

[FR Doc. Z7-14139 Filed 7-30-07; 8:45 am]

BILLING CODE 1505-01-D

DEPARTMENT OF THE INTERIOR

Bureau of Land Management

[AK-050-1430-EQ-P; AA-081894]

Notice of Realty Action; Issuance of a 5-year Renewable Lease of Public Land, Caribou Lake, Alaska

Correction

In notice document E7-14336 appearing on page 40894 in the issue of Wednesday, July 25, 2007, make the following correction:

The subject is corrected to read as indicated above.

[FR Doc. Z7-14336 Filed 7-30-07; 8:45 am]

BILLING CODE 1505-01-D

DEPARTMENT OF JUSTICE

Drug Enforcement Administration

21 CFR Part 1310

[Docket No. DEA-257C]

RIN 1117-AA93

Changes in the Regulation of Iodine Crystals and Chemical Mixtures Containing Over 2.2 Percent Iodine; Correction

Correction

In rules document E7-14317 beginning on page 40238 in the issue of Tuesday, July 24, 2007, make the following correction:

On page 40238, in the third column, under the heading EFFECTIVE DATES, in the second line, “July 24, 2007” should read “August 1, 2007”.

[FR Doc. Z7-14317 Filed 7-30-07; 8:45 am]

BILLING CODE 1505-01-D